ADMINISTRATIVE CONFERENCE OF THE UNITED STATES

Notice of Public Meeting of the Assembly of the Administrative Conference of the United States

AGENCY: Administrative Conference of the United States

ACTION: Notice.

SUMMARY: The Assembly of the Administrative Conference of the United States (ACUS) will meet during a one-day hybrid plenary session to consider three proposed recommendations and to conduct other business. Written comments may be submitted in advance, and the meeting will be accessible to the public.

DATES: The meeting will take place on Thursday, December 12, 2024, from 9:30 a.m.-4 p.m. ET. The meeting may adjourn early if all business is concluded prior to the stated end time.

ADDRESSES: For those attending in person, the meeting will be held at The U.S. Small Business Administration Eisenhower Conference Room, 409 Third Street SW, Washington, DC 20416. There will be a virtual attendance option. Information on how the public can access the meeting will be available on the agency's website prior to the meeting at https://www.acus.gov/event/82nd-plenary-session.

FOR FURTHER INFORMATION CONTACT: Shawne McGibbon, General Counsel (Designated Federal Officer), Administrative Conference of the United States, Suite 706 South, 1120 20th Street NW, Washington, DC 20036; Telephone 202-480-2080; email smcgibbon@acus.gov.

SUPPLEMENTARY INFORMATION: The Administrative Conference of the United States makes recommendations to federal agencies, the President, Congress, and the Judicial Conference of the United States regarding the improvement of administrative procedures (5 U.S.C. 594). ACUS's membership, when meeting in plenary session, constitutes the Assembly of the Conference (5 U.S.C. 595).

Agenda: Three proposed recommendations will be considered by the Assembly. In addition, there will be updates on past, current, and pending ACUS initiatives, as well as other business. Summaries of the recommendations appear below:

Using Algorithmic Tools in Regulatory Enforcement. This proposed recommendation provides best practices for using artificial intelligence, predictive analytics, and other algorithmic tools to support agencies' regulatory enforcement efforts. It addresses the potential benefits and risks of using algorithmic tools to detect, investigate, and prosecute noncompliance with the law and identifies policies, practices, and organizational structures that agencies can put in place to ensure they enforce the law fairly, accurately, and efficiently.

Public Engagement in Agency Rulemaking Under the Good Cause Exemption: This proposed recommendation provides best practices for public engagement when agencies find good cause to forgo notice-and-comment rulemaking procedures under the Administrative Procedure Act. It encourages agencies to use direct final rulemaking, interim final rulemaking, and alternative methods of public engagement to ensure robust public participation even when they rely properly on the good cause exemption.

Nonlawyer Assistance and Representation. This proposed recommendation provides best practices for agencies to increase the availability of nonlawyer representation and assistance to participants in their adjudicative systems. It provides guidance on the establishment of rules authorizing qualification or, as appropriate, accreditation of nonlawyer representatives; ways to make such processes accessible and transparent; and strategies for coordinating with other government agencies and nongovernmental organizations to increase the availability of representation and assistance.

Additional information about the proposals and the agenda, as well as any changes or updates to the same, can be found at the 82nd Plenary Session page on ACUS's website prior to the start of the meeting at: https://www.acus.gov/event/82nd-plenary-session.

Public Participation: ACUS welcomes the virtual attendance of the public at the meeting. Members of the public wishing to view the meeting are asked to RSVP online at the 82nd Plenary Session web page shown above no later than two days before the meeting to ensure adequate bandwidth and accessibility. A link to a livestream of the meeting will be posted the morning of the meeting on the 82nd Plenary Session web page. A video recording of the meeting will be available on ACUS's website shortly after the conclusion of the event at https://youtube.com/channel/UC1Gu44Jq1U7XsGdC9Tfl_zA.

Written Comments: Persons who wish to comment on any of the proposed recommendations may do so by submitting a written statement either by email to info@acus.gov with “December 2024 Plenary Session Comments” in the subject line of the email, or by U.S. Mail addressed to: December 2024 Plenary Session Comments, Administrative Conference of the United States, Suite 706 South, 1120 20th Street NW, Washington, DC 20036. Written submissions must be received no later than 10:00 a.m. (EDT), Friday, December 6, 2024, to ensure consideration by the Assembly.

(Authority: 5 U.S.C. 595)

Dated: November 22, 2024.
Shawne McGibbon,
General Counsel.

[FR Doc. 2024-27867 Filed 11-26-24; 8:45 am]

BILLING CODE 6110-01-P